DEPARTMENT OF TRANSPORTATION

Federal Aviation Administration

14 CFR Part 39

[Docket No. FAA-2009-0883; Directorate Identifier 97-ANE-08]

RIN 2120-AA64

Airworthiness Directives; Pratt & Whitney JT8D-209, -217, -217C, and -219 Turbofan Engines

AGENCY: Federal Aviation Administration (FAA), DOT.

ACTION: Notice of proposed rulemaking (NPRM).

SUMMARY: The FAA proposes to revise an existing airworthiness directive (AD) for Pratt & Whitney JT8D-209, -217, -217C, and -219 turbofan engines with front compressor front hub (fan hub), part number (P/N) 5000501-01 installed. That AD currently requires cleaning the front compressor front hubs (fan hubs), initial and repetitive eddy current (ECI) and fluorescent penetrant inspections (FPI) of tierod and counterweight holes for cracks, removal of bushings, cleaning and ECI and FPI of bushed holes for cracks and, if necessary, replacement with serviceable parts. In addition, that AD currently requires reporting the findings of cracked fan hubs and monthly reports of the number of inspections completed. This proposed AD would require the same actions, except for the monthly reporting of the number of completed inspections. This proposed AD results from the FAA determining that it has collected a sufficient amount of data since issuing AD 97-17-04 and that therefore, it no longer needs the monthly reporting of the number of completed inspections. We are proposing this AD revision to prevent fan hub failure due to tierod, counterweight, or bushed hole cracking, which could result in an uncontained engine failure and damage to the airplane.

DATES: We must receive any comments on this proposed AD by February 19, 2010.

ADDRESSES: Use one of the following addresses to comment on this proposed AD.

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

FOR FURTHER INFORMATION CONTACT: Kevin Dickert, Aerospace Engineer, Engine Certification Office, FAA, Engine & Propeller Directorate, 12 New England Executive Park, Burlington, MA 01803; e-mail: alan.strom@faa.gov; telephone (781) 238-7117; fax (781) 238-7199.

Contact Pratt & Whitney, 400 Main St., East Hartford, CT 06108; telephone (860) 565-8770; fax (860) 565-4503, for the service information referenced in this proposed AD.

SUPPLEMENTARY INFORMATION:

Comments Invited

We invite you to send any written relevant data, views, or arguments regarding this proposal. Send your comments to an address listed under ADDRESSES. Include “Docket No. FAA-2009-0883; Directorate Identifier 97-ANE-08” in the subject line of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

Discussion

The FAA proposes to amend 14 CFR part 39 by revising AD 97-17-04, Amendment 39-10106 (62 FR 45152, August 26, 1997). That AD requires cleaning of front compressor front hubs (fan hubs), initial and repetitive ECI and FPI of tierod and counterweight holes for cracks, removal of bushings, the cleaning and ECI and FPI of bushed holes for cracks, and, if necessary, replacement with serviceable parts. In addition, that AD requires reporting the findings of cracked fan hubs and monthly reporting of the number of inspections performed.

Since AD 97-17-04 was issued, we have collected sufficient data on inspections and determined that we do not need further monthly reports of inspections performed.

FAA's Determination and Requirements of the Proposed AD

We have evaluated all pertinent information, and we are proposing this AD, which would revise AD 97-17-04 to eliminate the monthly requirement to report the number of completed inspections back to the FAA. All other requirements contained in AD 97-17-04 would still be maintained.

Cost of Compliance

We estimate that this proposed AD revision would affect 1,170 JT8D-209, -217, -217C, and -219 turbofan engines installed on airplanes of U.S. registry. We estimate that it would take four work-hours per engine to complete one inspection of the fan hub at piece-part exposure. The average labor rate is $80 per work-hour. Based on these figures, we estimate the total cost of the proposed AD to U.S. operators to be $374,400.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed AD:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Incorporation by reference, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-10106 (62 FR 45152, August 26, 1997) and by adding a new airworthiness directive to read as follows:

Pratt & Whitney: Docket No. FAA-2009-0883; Directorate Identifier 97-ANE-08.

Comments Due Date

(a) The Federal Aviation Administration (FAA) must receive comments on this airworthiness directive (AD) action by February 19, 2010.

Affected ADs

(b) This AD revises AD 97-17-04, Amendment 39-10106.

Applicability

(c) This AD applies to Pratt & Whitney (PW) JT8D-209, -217, -217C, and -219 turbofan engines with front compressor front hub (fan hub), part number (P/N) 5000501-01, installed. These engines are installed on, but not limited to, McDonnell Douglas MD-80 series airplanes.

Unsafe Condition

(d) This AD results from the FAA determining that it has collected a sufficient amount of data since issuing AD 97-17-04 and that therefore, it no longer needs the monthly reporting of the number of completed inspections. We are issuing this AD to prevent fan hub failure due to tierod, counterweight, or bushed hole cracking, which could result in an uncontained engine failure and damage to the airplane.

Compliance

(e) You are responsible for having the actions required by this AD performed within the compliance times specified unless the actions have already been done.

(f) Inspect fan hubs for cracks in accordance with the Accomplishment Instructions, Paragraph A, Part 1, and, if applicable, Paragraph B, of PW Alert Service Bulletin (ASB) No. A6272, dated September 24, 1996, as follows:

(1) For fan hubs identified by serial numbers (S/Ns) in Table 2 of this AD, after the fan hub has accumulated more than 4,000 cycles-since-new (CSN), as follows:

(i) Initially inspect within 315 cycles-in-service (CIS) from the effective date of this AD, or 4,315 CSN, whichever occurs later.

(ii) Thereafter, re-inspect after accumulating 2,500 CIS since last inspection, but not to exceed 10,000 CIS since last inspection.

(2) For fan hubs identified by S/Ns in Appendix A of PW ASB No. A6272, dated September 24, 1996, after the fan hub has accumulated more than 4,000 CSN, as follows:

(i) Select an initial inspection interval from Table 1 of this AD, and inspect accordingly.

Table 1—Inspections
Initial inspection | Re-inspection
(A) Within 1,050 CIS after the effective date of AD 97-02-11, March 5, 1997, or prior to accumulating 5,050 CSN, whichever occurs later; | After accumulating 2,500 CIS since-last-inspection, but not to exceed 6,000 CIS since-last-inspection.
OR | OR
(B) Within 990 CIS after the effective date of AD 97-02-11, March 5, 1997, or prior to accumulating 4,990 CSN, whichever occurs later; | After accumulating 2,500 CIS since-last-inspection, but not to exceed 8,000 CIS since-last-inspection.
OR | OR
(C) Within 965 CIS after the effective date of AD 97-02-11, March 5, 1997, or prior to accumulating 4,965 CSN, whichever occurs later. | After accumulating 2,500 CIS since-last-inspection, but not to exceed 10,000 CIS since-last-inspection.

Table 2—Hubs With Traveler Notations
M67663 | M67802 | P66880 | S25545 | P66747 | R33099 | S25292
M67671 | M67812 | P66885 | S25558 | P66756 | R33107 | S25299
M67675 | M67826 | R32732 | S25564 | P66800 | R33113 | S25301
M67681 | M67829 | R32733 | S25598 | P66814 | R33124 | S25302
M67685 | M67830 | R32735 | S25618 | P66819 | R33131 | S25308
M67686 | M67831 | R32740 | S25621 | P66831 | R33132 | S25312
M67687 | M67832 | R32741 | S25637 | R32767 | R33133 | S25316
M67697 | M67834 | R32810 | S25640 | R32787 | R33136 | S25323
M67700 | M67843 | R32849 | T50693 | R32792 | R33152 | S25334
M67706 | M67849 | R32850 | T50752 | R32795 | R33157 | S25335
M67710 | M67858 | S25222 | T50785 | R32796 | R33163 | S25337
M67712 | M67866 | S25464 | T50791 | R32800 | R33165 | S25344
M67713 | M67868 | S25481 | T50792 | R32807 | R33168 | S25369
M67714 | M67869 | S25483 | T50819 | R32856 | R33171 | S25377
M67715 | M67872 | S25484 | T50823 | R32860 | R33173 | S25378
M67716 | M67888 | S25486 | T50827 | R32870 | R33180 | S25381
M67717 | N71771 | S25488 | T50874 | R32883 | R33181 | S25394
M67722 | N71804 | S25489 | T50875 | R32905 | R33189 | S25399
M67723 | N71806 | S25490 | T51058 | R32926 | R33194 | S25402
M67725 | N71810 | S25491 | T51104 | R32930 | R33198 | S25406
M67726 | N71811 | S25492 |  | R32952 | R33201 | S25411
M67730 | N71875 | S25494 |  | R32964 | R33202 | S25413
M67731 | N71876 | S25495 |  | R32966 | R33207 | S25414
M67746 | N71921 | S25497 |  | R32971 | S25193 | S25415
M67751 | N71965 | S25498 |  | R32976 | S25195 | S25418
M67753 | N72062 | S25499 |  | R32981 | S25207 | S25419
M67764 | N72126 | S25500 |  | R32990 | S25208 | S25421
M67765 | N72152 | S25501 |  | R32994 | S25221 | S25422
M67784 | N72162 | S25502 |  | R33000 | S25229 | S25430
M67791 | N72207 | S25505 |  | R33004 | S25238 | S25437
M67792 | N72216 | S25506 |  | R33040 | S25246 | S25439
M67793 | N72219 | S25507 |  | R33055 | S25248 | S25449
M67794 | N72242 | S25508 |  | R33059 | S25250 | R33186
M67795 | P66693 | S25509 |  | R33077 | S25256 | S25528
M67796 | P66695 | S25514 |  | R33080 | S25262 |
M67797 | P66696 | S25529 |  | R33082 | S25268 |
M67798 | P66698 | S25532 |  | R33086 | S25278 |
M67799 | P66699 | S25541 |  | R33087 | S25287 |
M67800 | P66737 | S25543 |  | R33089 | S25288 |
M67801 | P66753 | S25544 |  | R33090 |  |

(ii) Thereafter, re-inspect at intervals that correspond to the selected inspection interval.

(3) If a fan hub is identified in both Table 2 of this AD and Appendix A of PW ASB No. A6272, dated September 24, 1996, inspect in accordance with paragraph (f)(1) or (f)(2) of this AD, whichever occurs first.

(4) For fan hubs with S/Ns not listed in Table 2 of this AD or in Appendix A of PW ASB No. A6272, dated September 24, 1996, after the fan hub has accumulated more than 4,000 CSN, inspect the next time the fan hub is in the shop at piece-part level, but not to exceed 10,000 CIS after March 5, 1997.

(5) Prior to further flight, remove from service fan hubs found cracked or that exceed the bushed hole acceptance criteria described in PW ASB No. A6272, dated September 24, 1996.

Reporting Requirements

(g) Report findings of cracked fan hubs using Accomplishment Instructions, Paragraph F, of Attachment 1 to PW ASB No. A6272, dated September 24, 1996, within 48 hours to Kevin Dickert, Engine Certification Office, FAA, Engine and Propeller Directorate, 12 New England Executive Park, Burlington, MA 01803; telephone (781) 238-7117; fax (781) 238-7199; e-mail: Kevin.Dickert@faa.gov.

(h) The Office of Management and Budget (OMB) has approved the reporting requirements and assigned OMB control number 2120-0056.

Alternative Methods of Compliance

(i) The Manager, Engine Certification Office, FAA, has the authority to approve alternative methods of compliance for this AD if requested using the procedures found in 14 CFR 39.19.

Material Incorporated by Reference

(j) You must use the Pratt & Whitney service information specified in Table 3 of this AD to perform the inspections required by this AD. The Director of the Federal Register previously approved the incorporation by reference of the documents listed in the following Table 3 as of March 5, 1997 (62 FR 4902) in accordance with 5 U.S.C. 552(a) and 1 CFR part 51. Contact Pratt & Whitney, 400 Main St., East Hartford, CT 06108; telephone (860) 565-8770; fax (860) 565-4503, for a copy of this service information. You may review copies at the FAA, New England Region, 12 New England Executive Park, Burlington, MA; or at the National Archives and Records Administration (NARA). For information on the availability of this material at NARA, call 202-741-6030, or go to: http://www.archives.gov/federal-register/cfr/ibr-locations.html.

Table 3—Incorporation by Reference
Service information | Page | Revision | Date
Alert Service Bulletin No. A6272 | All | Original | September 24, 1996.
Total Pages: 21
Non-Destruct Inspection Procedure No. NDIP-892 | All | A | September 15, 1996.
Total Pages: 30
Attachment I | All | A | September 15, 1996.
Total Pages: 4

Issued in Burlington, Massachusetts, on December 10, 2009.
Peter A. White,
Assistant Manager, Engine and Propeller Directorate, Aircraft Certification Service.

[FR Doc. E9-30221 Filed 12-18-09; 8:45 am]

BILLING CODE 4910-13-P